SUSQUEHANNA RIVER BASIN COMMISSION

Commission Meeting

AGENCY: Susquehanna River Basin Commission.

ACTION: Notice.

SUMMARY: The Susquehanna River Basin Commission will conduct its regular business meeting on September 24, 2025 in Harrisburg, Pennsylvania. Details concerning the matters to be addressed at the business meeting are contained in the Supplementary Information section of this notice. Also, the Commission published a document in the Federal Register on July 3, 2025 concerning its public hearing on July 31, in Harrisburg, Pennsylvania.

DATES: The meeting will be held on Wednesday, September 24, 2025 at 9:00 a.m.

ADDRESSES: This public meeting will be conducted in person and digitally from the Susquehanna River Basin Commission at 4423 North Front Street, Harrisburg, Pennsylvania.

FOR FURTHER INFORMATION CONTACT: Jason E. Oyler, General Counsel and Secretary to the Commission, telephone: 717-238-0423; fax: 717-238-2436.

SUPPLEMENTARY INFORMATION: The business meeting will include actions or presentations on the following items: (1) adoption the preliminary Fiscal Year 2027 budget; (2) adoption of the member jurisdiction allocation requests for Fiscal Year 2027; (3) approval of contract and grants; (4) approval of settlements of regulatory violations; and (5) 31 actions on 22 regulatory program projects.

This agenda is complete at the time of issuance, but other items may be added, and some stricken without further notice. The listing of an item on the agenda does not necessarily mean that the Commission will take final action on it at this meeting. When the Commission does take final action, notice of these actions will be published in the Federal Register after the meeting. Any actions specific to projects will also be provided in writing directly to project sponsors.

The meeting will be conducted both in person and digitally at the Susquehanna River Basin Commission, 4423 North Front Street, Harrisburg, Pennsylvania. The public is invited to attend the Commission's business meeting. The public may access the Business Meeting remotely via Zoom: https://us02web.zoom.us/j/81256961855?pwd=JjtXeSxCauchJQlToIUFaqxovbT55N.1. Meeting ID 812 5696 1855; Passcode: SRBC4423! or via telephone: 929-436-2866 or 301-715-8592.

A public hearing and written comment period was provided for the actions on the 22 projects and the comment period on those proposed actions is closed. Written comments pertaining to all other items on the agenda at the business meeting may be mailed to the Susquehanna River Basin Commission, 4423 North Front Street, Harrisburg, Pennsylvania 17110-1788, or submitted electronically at the link Business Meeting Comments. Comments are due to the Commission for all items (other than the proposed project actions subject to the public hearing) on the business meeting agenda on or before September 22, 2025. Comments will not be accepted at the business meeting noticed herein.

(Authority: Pub. L. 91-575, 84 Stat. 1509 et seq., 18 CFR parts 801, 806, and 808.)

Dated: August 21, 2025.
Jason E. Oyler,
General Counsel and Secretary to the Commission.

[FR Doc. 2025-16250 Filed 8-22-25; 8:45 am]

BILLING CODE 7040-01-P